DEPARTMENT OF EDUCATION

[Docket No. ED-2012-ICCD-0045]

Agency Information Collection Activities; Submission to the Office of Management and Budget for Review and Approval; Comment Request; Impact Evaluation of Teacher and Leader Evaluation Systems

AGENCY: Department of Education (ED), Institute of Education Sciences (IES).

ACTION: Notice.

SUMMARY: In accordance with the Paperwork Reduction of 1995 (44 U.S.C. chapter 3501 et seq.), ED is proposing a revision to an existing information collection.

DATES: Interested persons are invited to submit comments on or before November 28, 2012.

ADDRESSES: Comments submitted in response to this notice should be submitted electronically through the Federal eRulemaking Portal at http://www.regulations.gov by selecting Docket ID number ED-2012-ICCD-0045 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E117, Washington, DC 20202-4537.

FOR FURTHER INFORMATION CONTACT: Electronically mail ICDocketMgr@ed.gov. Please do not send comments here.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Impact Evaluation of Teacher and Leader Evaluation Systems.

OMB Control Number: 1850-0890.

Type of Review: Revision.

Respondents/Affected Public: Individuals or households; State, Local, or Tribal Governments.

Total Estimated Number of Annual Responses: 5,335.

Total Estimated Number of Annual Burden Hours: 4,265.

Abstract: This package requests clearance to collect data from districts, teachers, and principals for a study of a performance evaluation system for principals and teachers. The study will provide important implementation and impact information on a package of performance evaluation system components that reflects current federal policy. Study findings will be presented in two reports, one scheduled for release in Spring 2015 and the other in Summer 2016.

Dated: October 23, 2012.
Darrin A. King,
Director, Information Collection Clearance Division, Privacy, Information and Records Management Services, Office of Management.

[FR Doc. 2012-26519 Filed 10-26-12; 8:45 am]

BILLING CODE 4000-01-P